DEPARTMENT OF TRANSPORTATION

Federal Aviation Administration

14 CFR Part 39

[Docket No. FAA-2010-0856; Directorate Identifier 2010-NM-117-AD]

RIN 2120-AA64

Airworthiness Directives; the Boeing Company Airplanes

AGENCY: Federal Aviation Administration (FAA), DOT.

ACTION: Supplemental notice of proposed rulemaking (NPRM); reopening of comment period.

SUMMARY: We are revising an earlier proposed airworthiness directive (AD) for certain the Boeing Company Model 737-600, -700, -700C, -800, and -900 series airplanes. That NPRM proposed to inspect for part numbers of the operational program software of the flight control computers, and corrective actions if necessary. That NPRM was prompted by reports of undetected erroneous output from a single radio altimeter channel, which resulted in premature autothrottle retard during approach. This action revises that NPRM by also proposing to supersede an existing AD. We are proposing this supplemental NPRM to detect and correct an unsafe condition associated with erroneous output from a radio altimeter channel, which could result in premature autothrottle landing flare retard and the loss of automatic speed control, and consequent loss of control of the airplane. Since the proposal to now supersede an existing AD may impose an additional burden over that proposed in the NPRM, we are reopening the comment period to allow the public the chance to comment on this proposed change.

DATES: We must receive comments on this supplemental NPRM by July 16, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Gregg Nesemeier, Senior Aerospace Engineer, Systems and Equipment Branch, ANM-130S, FAA, Seattle Aircraft Certification Office (ACO), 1601 Lind Avenue SW., Renton, Washington 98057-3356; phone: (425) 917-6479; fax: (425) 917-6590; email: gregg.nesemeier@faa.gov.

SUPPLEMENTARY INFORMATION:

Comments Invited

We invite you to send any written relevant data, views, or arguments about this proposed AD. Send your comments to an address listed under the ADDRESSES section. Include “Docket No. FAA-2010-0856; Directorate Identifier 2010-NM-117-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an AD that would apply to certain the Boeing Company Model 737-600, -700, -700C, -800, and -900 series airplanes. That NPRM was published in the Federal Register on September 23, 2010 (75 FR 57885). That NPRM proposed to require inspecting for part numbers of the operational program software (OPS) of the flight control computers (FCC), and doing corrective actions if necessary.

Actions Since Previous NPRM (75 FR 57885, September 23, 2010) Was Issued

Since we issued the previous NPRM (75 FR 57885, September 23, 2010), we have determined that the software installation required by AD 2005-07-20, Amendment 39-14045 (70 FR 17603, April 7, 2005), is out of date and new software would be required by this supplemental NPRM.

Comments

We gave the public the opportunity to comment on the previous NPRM (75 FR 57885, September 23, 2010). The following presents the comments received on the previous NPRM and the FAA's response to each comment.

Support for the Previous NPRM (75 FR 57885, September 23, 2010)

The Airline Pilots Association, International (ALPA) supports the NPRM (75 FR 57885, September 23, 2010).

Request To Supersede Previous AD

Continental Airlines (Continental) requested that we revise the NPRM (75 FR 57885, September 23, 2010) to supersede AD 2005-07-20, Amendment 39-14045 (70 FR 17603, April 7, 2005). Continental explained that this would allow the new AD to be accomplished without needing an alternative method of compliance (AMOC) for AD 2005-07-20, which also applied to Model B737 FCC OPS.

Alaska Airlines (Alaska) also requested that we revise paragraph (b) of the NPRM (75 FR 57885, September 23, 2010) to include a reference to AD 2005-07-20, Amendment 39-14045 (70 FR 17603, April 7, 2005), which installed a previous version of FCC software. Alaska explained that we should consider whether AD 2005-07-20 should be superseded by the NPRM.

We agree to revise the NPRM (75 FR 57885, September 23, 2010) by proposing in this supplemental NPRM to supersede AD 2005-07-20, Amendment 39-14045 (70 FR 17603, April 7, 2005). AD 2005-07-20, for certain Model 737-600, -700, -800, and -900 series airplanes, requires installing and testing a certain version of OPS for the FCC. However, AD 2005-07-20 requires installation of an older version of the OPS for the FCC than what this supplemental NPRM would require. We have verified with the manufacturer that the software specified in Boeing Alert Service Bulletin 737-22A1211, dated April 13, 2010, provides appropriate corrective actions for the unsafe condition identified for the software identified in AD 2005-07-20. We have revised this supplemental NPRM in order to supersede AD 2005-07-20. We have also added paragraph (i)(3) of this supplemental NPRM to give credit for existing AMOCs.

Request To Revise Applicability Section

Continental requested that we revise the NPRM (75 FR 57885, September 23, 2010) by changing the Applicability section so that the NPRM only applies to airplanes with the earlier software. Continental explained that it has determined that the software required to be installed per Boeing Alert Service Bulletin 737-22A1211, dated April 13, 2010, is a later version than required to be installed by AD 2005-07-20, Amendment 39-14045 (70 FR 17603, April 7, 2005), per Boeing Alert Service Bulletin 737-22A1164, dated May 20, 2004. Continental expressed that later versions of software always seem to be an issue and require an AMOC. Continental stated that to eliminate this issue, we could either allow later software versions or revise the applicability so that it only applies to airplanes with the earlier software installed. Continental suggested that we revise the Applicability section of the NPRM to include the phrase, “with Flight Control Computers (FCC) Operational Program Software (OPS) 2271-COL-AC1-02, 2270-COL-AC1-03, or 2277-COL-AC1-04 installed.” Continental also contacted the FAA regarding its comment and provided examples of other AD applicabilities that might be used for this NPRM.

Alaska also requested that we revise the Applicability section of the NPRM (75 FR 57885, September 23, 2010) to exclude airplanes which had FCC software installed per an AMOC to AD 2005-07-20, Amendment 39-14045 (70 FR 17603, April 7, 2005). Alaska explained that this AMOC to AD 2005-07-20 approved the same FCC software specified in the NPRM, i.e., FCC software 2276-COL-AC1-05 or 2275-COL-AC1-06.

We do not agree to revise the Applicability section of this supplemental NPRM to limit it to only airplanes with certain FCC software versions installed. The intent of this supplemental NPRM is to ensure that the proper software is installed on all airplanes listed in the variable number table in Section 1.A., Effectivity, of Boeing Alert Service Bulletin 737-22A1211, dated April 13, 2010. If the required software is found to already be installed by performing the software part number inspection specified in Boeing Alert Service Bulletin 737-22A1211, dated April 13, 2010, then no more work is necessary. We have not changed the supplemental NPRM in this regard.

However, we do agree to revise this supplemental NPRM to allow for installation of versions of the FCC software that are approved by the Boeing Commercial Airplanes Organization Designation Authorization (ODA) after the issuance of Boeing Alert Service Bulletin 737-22A1211, dated April 13, 2010. We have revised paragraph (h)(1) of this supplemental NPRM accordingly. We have also clarified paragraph (h)(1) of this supplemental NPRM by referring to table 2 of that service bulletin for the improved software.

We agree to revise the Applicability section (paragraph (c)) of this supplemental NPRM for clarity by referring to the airplanes identified in the variable number table in Section 1.A., Effectivity, of Boeing Alert Service Bulletin 737-22A1211, dated April 13, 2010. We intend that this supplemental NPRM is applicable to all airplanes having variable numbers identified in that table, and that the applicability not be defined by the “Group 1” description in section 1.A. of Boeing Alert Service Bulletin 737-22A1211, dated April 13, 2010. We find that the effectivity by variable number in Boeing Alert Service Bulletin 737-22A1211, dated April 13, 2010, adequately identifies the airplanes affected by the unsafe condition and assures that the unsafe condition is corrected on affected airplanes. We have revised the Applicability section in this supplemental NPRM accordingly.

Request To Include a Terminating Action

Continental requested that we revise the NPRM (75 FR 57885, September 23, 2010) to include a note that states: “Validation by an operator that aircraft that have had part number (P/N) 831-5854-150 software loaded into their P/N 822-1604-101 or -151 Flight Control Computers in accordance with Boeing Service Letter 737-SL-22-059 constitutes a terminating action for this AD.” Continental reasoned that Boeing Service Letter 737-SL-22-059 was issued June 29, 2007, and that the letter advises operators that they can load software P/N 2275-COL-AC1-06 (Diskette Set Collins P/N 831-5854-150) into P/N 822-1604-101 and -151 FCCs. Continental explained that the software is listed in table 2 of Boeing Alert Service Bulletin 737-22A1211, dated April 13, 2010.

We disagree to include the note requested by the commenter. We intend that the applicability of the supplemental NPRM includes all airplanes identified in the variable number table in Section 1.A, Effectivity, of Boeing Alert Service Bulletin 737-22A1211, dated April 13, 2010. Boeing Alert Service Bulletin 737-22A1211, dated April 13, 2010, requires that operators inspect the FCC OPS part numbers, and that if the software part number installed is listed in table 2 of that service bulletin (which includes P/N 831-5854-150, as the commenter stated), no more work is necessary. Compliance with the requirements of paragraph (h) of the supplemental NPRM is then complete. However, if the operator finds that a software part number listed in table 2 of that service bulletin is not installed, they must install new software. We have revised the AD applicability in paragraph (c) of this supplemental NPRM to more clearly define the affected airplanes. We have not otherwise changed the AD in this regard.

Request To Include Certain Airplanes

Boeing requested that we revise the Summary section and the Applicability section of the NPRM (75 FR 57885, September 23, 2010) to include the phrase, “airplanes delivered with the Collins Enhanced Digital Flight Control System (EDFCS).” Boeing reasoned that the NPRM is only applicable to that portion of the Model 737-600, -700, -700C, -800, and -900 series airplane fleet delivered with the Collins EDFCS installed at delivery.

We agree to revise this supplemental NPRM to include the phrase requested by Boeing, although we will use the full company name of the equipment supplier (“Rockwell Collins”). This revision may make it easier for operators to quickly determine whether or not this AD is applicable to their airplanes. Since the effectivity of Boeing Alert Service Bulletin 737-22A1211, dated April 13, 2010, is limited to airplanes equipped with the Rockwell Collins EDFCS, this change will have no actual effect on the AD applicability. We have revised the Applicability section of the supplemental NPRM accordingly.

Request To Rephrase the Unsafe Condition

Boeing requested that we revise the NPRM (75 FR 57885, September 23, 2010) by removing the words “and correct” from the phrase “detect and correct”. Boeing explained that the software change described in Boeing Alert Service Bulletin 737-22A1211, dated April 13, 2010, does not “correct” erroneous radio altimeter outputs—it only “detects” them and inhibits the autothrottle landing flare retard mode.

We partially agree to revise the phrasing of the unsafe condition in the supplemental NPRM. The software change described in Boeing Alert Service Bulletin 737-22A1211, dated April 13, 2010, enables the airplane systems to detect erroneous output from a radio altimeter channel and correct improper autothrottle system response to that erroneous output. While we disagree to completely remove the phrase “and correct” from the unsafe condition statement, we have revised the unsafe condition phrasing accordingly throughout the supplemental NPRM.

Request To Change Phrasing Regarding Crew Response

Boeing requested that we revise the NPRM (75 FR 57885, September 23, 2010) by adding the phrase, “absent proper crew response,” to the following sentence throughout the NPRM, as such: “We are proposing this AD to detect erroneous output from a radio altimeter channel, which, absent proper crew response, could result in premature autothrottle landing flare retard and the loss of automatic speed control, and may lead to loss of control of the airplane.” Boeing explained that this sentence should directly reflect the fact that proper crew response can avoid any of the listed contingencies.

We disagree to revise this supplemental NPRM to include the phrase requested by Boeing. We do not have information at this time that confirms Boeing's comment. We have not changed the AD in this regard.

Request To Clarify the Applicability

Alaska requested that we clarify the applicability of the NPRM (75 FR 57885, September 23, 2010). Alaska explained that the effectivity section of Boeing Alert Service Bulletin 737-22A1211, dated April 13, 2010, could be interpreted to mean that airplanes with FCC software 2276-COL-AC1-05 or 2275-COL-AC1-06 installed did not require accomplishment of Boeing Alert Service Bulletin 737-22A1211, dated April 13, 2010, while the accomplishment section of Boeing Alert Service Bulletin 737-22A1211, dated April 13, 2010, could be interpreted to require that airplanes be inspected to verify that the correct software version is installed.

We agree to clarify the applicability of this supplemental NPRM, which includes all airplanes identified in the airplane variable number table in Section 1.A of Boeing Alert Service Bulletin 737-22A1211, dated April 13, 2010. The applicability of this supplemental NPRM is not defined by the “Group 1” description in that section of that service bulletin. We have revised paragraph (c) of this supplemental NPRM for clarity by referring to the variable number table. We have also added Note 1 to paragraph (c) of this supplemental NPRM.

Request To Use the Latest Revision of the Service Information

Alaska requested that we revise the NPRM (75 FR 57885, September 23, 2010) to refer to the latest service information, if a later revision is issued. Alaska noted that “computer” is misspelled in the effectivity section of Boeing Alert Service Bulletin 737-22A1211, dated April 13, 2010.

We acknowledge that “computer” is misspelled in the effectivity section of Boeing Alert Service Bulletin 737-22A1211, dated April 13, 2010. However, this typo does not affect the applicability of this supplemental NPRM. Also, we have not received any revised service information; Boeing Alert Service Bulletin 737-22A1211, dated April 13, 2010, is the latest service information. Therefore, we have not changed this supplemental NPRM in this regard.

Request To Correct Effectivity Between Service Information

Continental requested that we acknowledge that the effectivity between the service information in AD 2005-07-20, Amendment 39-14045 (70 FR 17603, April 7, 2005), and Boeing Alert Service Bulletin 737-22A1211, dated April 13, 2010, is different.

We agree that the effectivities of Boeing Alert Service Bulletin 737-22A1164, dated May 20, 2004, and Boeing Alert Service Bulletin 737-22A1211, dated April 13, 2010; are different. (Boeing Alert Service Bulletin 737-22A1164, dated May 20, 2004, is the appropriate source of service information for AD 2005-07-20, Amendment 39-14045 (70 FR 17603, April 7, 2005). However, we have verified that all airplanes in the effectivity of Boeing Alert Service Bulletin 737-22A1164, dated May 20, 2004, are also listed in the effectivity of Boeing Alert Service Bulletin 737-22A1211, dated April 13, 2010. Boeing Alert Service Bulletin 737-22A1211, dated April 13, 2010, is applicable to a larger group of airplanes than Boeing Alert Service Bulletin 737-22A1164, dated May 20, 2004. Therefore, we have not changed the supplemental NPRM in this regard.

Special Flight Permit Paragraph

We have removed paragraph (h) of the NPRM (75 FR 57885, September 23, 2010) from this supplemental NPRM. Paragraph (h) of the NPRM prohibited special flight permits. We have determined that special flight permits are allowed, as described in Section 21.197 and Section 21.199 of the Federal Aviation Regulations (14 CFR 21.197 and 21.199).

FAA's Determination

We are proposing this supplemental NPRM because we evaluated all the relevant information and determined the unsafe condition described previously is likely to exist or develop in other products of these same type designs. Certain changes described above expand the scope of the original NPRM (75 FR 57885, September 23, 2010). As a result, we have determined that it is necessary to reopen the comment period to provide additional opportunity for the public to comment on this supplemental NPRM.

Proposed Requirements of the Supplemental NPRM

This supplemental NPRM would require accomplishing the actions specified in the service information described previously.

Change to Existing AD

This proposed AD would retain all requirements of AD 2005-07-20, Amendment 39-14045 (70 FR 17603, April 7, 2005). Since AD 2005-07-20 was issued, the AD format has been revised, and certain paragraphs have been rearranged. As a result, the corresponding paragraph identifiers have changed in this proposed AD, as listed in the following table:

Revised Paragraph Identifiers
Requirement in AD 2005-07-20, Amendment 39-14045 (70 FR 17603, April 7, 2005) | Corresponding requirement in this proposed AD
paragraph (f) | paragraph (g)

Costs of Compliance

We estimate that this proposed AD affects 207 airplanes of U.S. registry.

We estimate the following costs to comply with this proposed AD:

Estimated Costs
Action | Labor cost | Parts cost | Cost per product | Cost on U.S. operators
Installation [retained actions from existing AD 2005-07-20, Amendment 39-14045 (70 FR 17603, April 7, 2005] | 2 work-hours × $85 per hour = $170 | $0 | $170 | $35,190
Inspection | 1 work-hour × $85 per hour = $85 | N/A | $85 per inspection cycle | 17,595

We estimate the following costs to do any necessary installations that would be required based on the results of the proposed inspection. We have no way of determining the number of aircraft that might need this installation:

On-Condition Costs
Action | Labor cost | Parts cost | Cost per product
Installation | 1 work-hour × $85 per hour = $85 | $0 | $85

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2005-07-20, Amendment 39-14045 (70 FR 17603, April 7, 2005), and adding the following new AD.

The Boeing Company: Docket No. FAA-2010-0856; Directorate Identifier 2010-NM-117-AD.

(a) Comments Due Date

We must receive comments by July 16, 2012.

(b) Affected ADs

This AD supersedes AD 2005-07-20, Amendment 39-14045 (70 FR 17603, April 7, 2005).

(c) Applicability

This AD applies to The Boeing Company Model 737-600, -700, -700C, -800, and -900 series airplanes, delivered with the Rockwell Collins Enhanced Digital Flight Control System (EDFCS), certificated in any category; as identified in the Variable Number table in Section 1.A., Effectivity, of Boeing Alert Service Bulletin 737-22A1211, dated April 13, 2010.

Note 1 to paragraph (c) of this AD: This AD is applicable to all airplanes listed in the Variable Number table, and is not defined by the “Group 1” description in Section 1.A. of Boeing Alert Service Bulletin 737-22A1211, dated April 13, 2010.

(d) Subject

Joint Aircraft System Component (JASC)/Air Transport Association (ATA) of America Code 22, Auto Flight.

(e) Unsafe Condition

This AD was prompted by reports of undetected erroneous output from a single radio altimeter channel, which resulted in premature autothrottle retard during approach. We are issuing this AD to detect and correct an unsafe condition associated with erroneous output from a radio altimeter channel, which could result in premature autothrottle landing flare retard and the loss of automatic speed control, and consequent loss of control of the airplane.

(f) Compliance

Comply with this AD within the compliance times specified, unless already done.

(g) Retained Actions With No Changes

This paragraph restates the actions required by paragraph (f) of AD 2005-07-20, Amendment 39-14045 (70 FR 17603, April 7, 2005). For airplanes identified in Boeing Alert Service Bulletin 737-22A1164, dated May 20, 2004: Within 12 months after May 12, 2005 (the effective date of AD 2005-07-20, Amendment 39-14045 (70 FR 17603, April 7, 2005)), install and test an updated version of the operational program software (OPS) of the EDFCS flight control computers (FCCs), in accordance with Boeing Alert Service Bulletin 737-22A1164, dated May 20, 2004.

(h) New Requirements

Within 3 months after the effective date of this AD: Inspect to determine the part number of the OPS of the FCCs, in accordance with the Accomplishment Instructions of Boeing Alert Service Bulletin 737-22A1211, dated April 13, 2010. Installing software as required by paragraph (h)(1) of this AD, or verifying that the software is installed as specified by paragraph (h)(2) of this AD, terminates the requirements of paragraph (g) of this AD.

(1) For any OPS having a part number identified in table 1 of the Accomplishment Instructions of Boeing Alert Service Bulletin 737-22A1211, dated April 13, 2010: Before further flight, install software specified in table 2 of Boeing Alert Service Bulletin 737-22A1211, dated April 13, 2010, or install software that is approved by the Boeing Commercial Airplanes Organization Designation Authorization (ODA) after April 13, 2010, that is fully interchangeable with the software specified in table 2 of Boeing Alert Service Bulletin 737-22A1211, dated April 13, 2010. Do the installation in accordance with the Accomplishment Instructions of Boeing Alert Service Bulletin 737-22A1211, dated April 13, 2010.

(2) For any OPS having a part number identified in table 2 of the Accomplishment Instructions of Boeing Alert Service Bulletin 737-22A1211, dated April 13, 2010: No further action is required by this paragraph.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved previously in accordance with AD 2005-07-20, Amendment 39-14045 (70 FR 17603, April 7, 2005), are approved as AMOCs for the corresponding provisions of this AD.

(j) Related Information

(1) For more information about this AD, contact Gregg Nesemeier, Senior Aerospace Engineer, Systems and Equipment Branch, ANM-130S, FAA, Seattle Aircraft Certification Office (ACO), 1601 Lind Avenue SW., Renton, Washington 98057-3356; phone: (425) 917-6479; fax: (425) 917-6590; email: gregg.nesemeier@faa.gov.

(2) For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington 98057-3356. For information on the availability of this material at the FAA, call 425-227-1221.

Issued in Renton, Washington, on May 21, 2012.
Michael Kaszycki,
Acting Manager, Transport Airplane Directorate, Aircraft Certification Service.

[FR Doc. 2012-13028 Filed 5-29-12; 8:45 am]

BILLING CODE 4910-13-P